DEPARTMENT OF COMMERCE

International Trade Administration

[A-821-802]

Agreement Suspending the Antidumping Investigation on Uranium From the Russian Federation: Rescission of 2018-2019 Administrative Review

AGENCY: Enforcement and Compliance, International Trade Administration, Department of Commerce.

SUMMARY: The U.S. Department of Commerce (Commerce) is rescinding the administrative review of the Agreement Suspending the Antidumping Investigation on Uranium from the Russian Federation (Agreement) for the period of review (POR) from October 1, 2018 through September 30, 2019, based on withdrawal of the request for review.

DATES: Applicable October 23, 2020.

FOR FURTHER INFORMATION CONTACT: Sally C. Gannon or Jill Buckles, Bilateral Agreements Unit, Enforcement and Compliance, International Trade Administration, U.S. Department of Commerce, 1401 Constitution Avenue NW, Washington, DC 20230; telephone: (202) 482-0162 or (202) 482-6230, respectively.

SUPPLEMENTARY INFORMATION:

Background

On October 1, 2019, Commerce notified interested parties of the opportunity to request an administrative review of the Agreement.¹ On October 11, 2019, domestic interested party Louisiana Energy Services LLC (LES) submitted a request for an administrative review of the Agreement.² On December 11, 2019, Commerce published in the Federal Register a notice initiating an administrative review of the Agreement for the POR October 1, 2018 through September 30, 2019.³

¹ See Antidumping or Countervailing Duty Order, Finding, or Suspended Investigation; Opportunity To Request Administrative Review, 83 FR 49358 (October 1, 2018).

² See Letter from LES, “Uranium from Russia: Request for Administrative Review,” dated October 11, 2019.

³ See Initiation of Antidumping and Countervailing Duty Administrative Reviews, 84 FR 67712 (December 11, 2019).

Pursuant to 19 CFR 351.213(d)(1), Commerce will rescind an administrative review, in whole or in part, if the party or parties that requested a review withdraws the request within 90 days of the publication date of the notice of initiation of the requested review. Furthermore, Commerce may extend this time limit if Commerce decides that it is reasonable to do so. The deadline for a party to withdraw a request for review was on March 10, 2020.

On October 6, 2020, LES submitted a request to withdraw its request for the administrative review of the Agreement.⁴ Although this review was initiated more than 90 days prior to its request for withdrawal, i.e., on December 11, 2019, LES requests that Commerce exercise its discretion to rescind this review. In its letter, LES explains that it is reasonable to rescind it in light of the recent amendment to the Agreement reached on October 5, 2020.⁵ LES argues that the 2020 Amendment aims at correcting statutory deficiencies of the Agreement at issue in the review and that Commerce need not expend additional resources in the conduct of this review.⁶ LES further notes that Commerce has not yet issued the preliminary results of review.

⁴ See Letter from LES, “Uranium from the Russian Federation: Withdrawal of Request for Administrative Review,” dated October 6, 2020 (LES Withdrawal Request).

⁵ Id. at 2; see also 2020 Amendment to the Agreement Suspending the Antidumping Investigation on Uranium From the Russian Federation, 85 FR 64112 (October 9, 2020) (2020 Amendment).

⁶ See LES Withdrawal Request at 2-3.

LES has stated that it is withdrawing its request for review based upon its conclusion that rescission is reasonable in light of the recently issued 2020 Amendment to the Agreement. In addition, given that the basis for LES's withdrawal is the issuance of the 2020 Amendment to the Agreement, and that the 2020 Amendment was issued after the expiration of the 90-day time limit for withdrawal, we find it reasonable to extend the period of time for withdrawal of the review request. Therefore, Commerce is extending the time limit pursuant to 19 CFR 351.213(d)(1) and permitting LES to withdraw its request for an administrative review.

Rescission of the Administrative Review

As discussed above, pursuant to 19 CFR 351.213(d)(1), Commerce has considered LES's request to withdraw its request for a review of the Agreement beyond the established time limit and, based on the reasons provided by LES and the circumstances presented, determines that it is reasonable to extend the deadline and permit LES to withdraw its review request. Accordingly, as LES has withdrawn its request for review, Commerce is rescinding this review of the Agreement for the POR October 1, 2018 through September 30, 2019 in accordance with 19 CFR 351.213(d)(1).

Administrative Protective Orders

This notice serves as a reminder to all parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with sections 751(a)(1) and 777(i)(1) of the Act and 19 CFR 351.213(d)(4).

Dated: October 19, 2020.
Jeffrey I. Kessler,
Assistant Secretary for Enforcement and Compliance.

[FR Doc. 2020-23527 Filed 10-22-20; 8:45 am]

BILLING CODE 3510-DS-P